DEPARTMENT OF THE INTERIOR

Bureau of Indian Affairs

[223A2100DD/AAKC001030/A0A501010.999900]

Indian Gaming; Approval of Tribal-State Class III Gaming Compact in the State of Minnesota

AGENCY: Bureau of Indian Affairs, Interior.

ACTION: Notice.

SUMMARY: This notice publishes the approval of the Fourth Amendment to the Technical Standards in the Tribal-State Compact for Control of Class III Video Games of Chance on the Shakopee Mdewakanton Sioux Community Reservation in Minnesota (Amendment) between the Shakopee Mdewakanton Sioux Community of Minnesota (Tribe) and the State of Minnesota (State).

DATES: The Amendment takes effect on April 12, 2022.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment permits the Tribe to operate a cashless wagering system for video games of chance. The Amendment contains technical standards for the operation of a cashless wagering system and amends the hardware and software requirements for Video Games of Chance. The Amendment is approved.

Wizipan Garriott,
Principal Deputy Assistant Secretary—Indian Affairs, Exercising by delegation the authority of the Assistant Secretary—Indian Affairs.

[FR Doc. 2022-07753 Filed 4-11-22; 8:45 am]

BILLING CODE 4337-15-P